DEPARTMENT OF HOMELAND SECURITY

Federal Emergency Management Agency

[Docket ID FEMA-2010-0070]

Agency Information Collection Activities: Proposed Collection; Comment Request, OMB No. 1660-0057; Chemical Stockpile Emergency Preparedness Program (CSEPP) Evaluation and Customer Satisfaction Survey

AGENCY: Federal Emergency Management Agency, DHS.

ACTION: Notice; 60-day notice and request for comments: revision of a currently approved information collection; OMB No. 1660-0057; Chemical Stockpile Emergency Preparedness Program (CSEPP) Evaluation and Customer Satisfaction Survey; FEMA Form 008-0-3, Pueblo EPZ Residential Survey; FEMA Form 008-0-4, Pueblo City Residential Survey; FEMA Form 008-0-5, Pueblo EPZ Business Survey; FEMA Form 008-0-6, Umatilla EPZ Residential Survey; FEMA Form 008-0-7, Blue Grass EPZ Residential Survey; FEMA Form 008-0-8, Deseret EPZ Residential Survey.

SUMMARY: The Federal Emergency Management Agency, as part of its continuing effort to reduce paperwork and respondent burden, invites the general public and other Federal agencies to take this opportunity to comment on a proposed revision of a currently approved information collection. In accordance with the Paperwork Reduction Act of 1995, this Notice seeks comments concerning the collection of data from citizens living in the Immediate Response Zones and Protection Action Zones surrounding stockpile sites.

DATES: Comments must be submitted on or before April 1, 2011.

ADDRESSES: To avoid duplicate submissions to the docket, please use only one of the following means to submit comments:

(1) Online. Submit comments at http://www.regulations.gov under Docket ID FEMA-2010-0070. Follow the instructions for submitting comments.

(2) Mail. Submit written comments to Legislation, Regulations & Policy Division, Office of Chief Counsel, DHS/FEMA, 500 C Street, SW., Room 835, Washington, DC 20472-3100.

(3) Facsimile. Submit comments to (703) 483-2999.

(4) E-mail. Submit comments to FEMA-POLICY@dhs.gov. Include Docket ID FEMA-2010-0070 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Thomas Warnock, Program Specialist, Technological Hazards Division, National Preparedness Directorate, 703-605-1207 for additional information. You may contact the Records Management Division for copies of the proposed collection of information at facsimile number (202) 646-3347 or e-mail address: FEMA-Information-Collections-Management@dhs.gov.

SUPPLEMENTARY INFORMATION: The Chemical Stockpile Emergency Preparedness Program (CSEPP) is one facet of the multi-hazard readiness program in eight States that deal with hazardous material spills or releases. The program's goal is to improve preparedness to protect the people of these communities in the unlikely event of an accident. CSEPP, a cooperative effort between FEMA and the U.S. Army, provides funding (grants), training, community outreach, guidance, technical support and expertise to State, local, and Tribal governments to improve their capabilities to prepare for and respond to this type of disaster. Since no preparedness program can be successful without the public's understanding and cooperation, input from the residents and businesses of immediate and/or surrounding areas is vital for program managers' ability to design custom-tailored strategies to educate and communicate risks and action plans at the local level. This survey, which was initiated six years ago, will continue as the assessment mechanism to document and quantify program achievements. There are two authorities supporting this information collection: (1) The Government Performance Results Act of 1993, which mandates Federal agencies to provide valid and reliable quantification of program achievements, and (2) Executive Order 12862, which requires agencies to survey customers to determine their level of satisfaction with existing services.

Collection of Information

Title: Chemical Stockpile Emergency Preparedness Program (CSEPP) Evaluation and Customer Satisfaction Survey.

Type of Information Collection: Revision of a currently approved information collection.

OMB Number: 1660-0057.

Form Titles and Numbers: FEMA Form 008-0-3, Pueblo EPZ Residential Survey; FEMA Form 008-0-4, Pueblo City Residential Survey; FEMA Form 008-0-5, Pueblo EPZ Business Survey; FEMA Form 008-0-6, Umatilla EPZ Residential Survey; FEMA Form 008-0-7, Blue Grass EPZ Residential Survey; FEMA Form 008-0-8, Deseret EPZ Residential Survey.

Abstract: To support the development of public outreach and education efforts that will improve the emergency preparedness, DHS/FEMA's Chemical Stockpile Emergency Preparedness Program (CSEPP) will collect data from the citizens living in the Immediate Response Zones (IRZ) and Protective Action Zones (PAZ) surrounding stockpile sites. Program managers use survey data findings to evaluate public awareness of protective actions at CSEPP sites, and identify outreach weaknesses and strengths to develop effective outreach and education campaigns. Results from this information collection are shared with State, local, Tribal, and other FEMA officials for subsequent action plans addressing program-wide and stockpile site-specific issues. Results are also shared with other Federal agencies that lend expertise in specific areas of the program.

Affected Public: Individuals or households, Business or other for-profit.

Estimated Total Annual Burden Hours: 898.11 hours.

Type of respondent | Form name/form number | Number of respondents | Number of responses per respondent | Total number of responses | Average burden per response (in hours) | Total annual burden (in hours)
Individuals or households | Pueblo EPZ Residential Survey/FEMA Form 008-0-3 | 737 | 1 | 737 | 0.25 (15 minutes) | 184.25
Individuals or households | Pueblo EPZ Residential Survey/FEMA Form 008-0-3INT (Pilot web-based) | 50 | 1 | 50 | .25 (15 minutes) | 12.5
Individuals or households | Pueblo City Residential Survey/FEMA Form 008-0-4 | 383 | 1 | 383 | 0.17 (10 minutes) | 65.11
Business or other for-profit | Pueblo EPZ Business Survey/FEMA Form 008-0-5 | 86 | 1 | 86 | 0.25 (15 minutes) | 21.5
Individuals or households | Umatilla EPZ Residential Survey/FEMA Form 008-0-6 | 814 | 1 | 814 | 0.25 (15 minutes) | 203.5
Individuals or households | Blue Grass EPZ Residential Survey/FEMA Form 008-0-7 | 822 | 1 | 822 | 0.25 (15 minutes) | 205.5
Individuals or households | Deseret EPZ Residential Survey/FEMA Form 008-0-8 | 823 | 1 | 823 | 0.25 (15 minutes) | 205.75
Total |  | 3,715 |  | 3,715 |  | 898.11

Estimated Cost: None.

Comments

Comments may be submitted as indicated in the addresses caption above. Comments are solicited to: (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: January 24, 2011.
Lesia M. Banks,
Director, Records Management Division, Mission Support Bureau, Federal Emergency Management Agency, Department of Homeland Security.

[FR Doc. 2011-2032 Filed 1-28-11; 8:45 am]

BILLING CODE 9111-46-P